DEPARTMENT OF TRANSPORTATION

Federal Motor Carrier Safety Administration

National Hazardous Materials Route Registry

AGENCY: Federal Motor Carrier Safety Administration (FMCSA), Department of Transportation (DOT).

ACTION: Notice; revisions to the listing of designated and restricted routes for hazardous materials.

SUMMARY: This notice provides revisions to the National Hazardous Materials Route Registry (NHMRR) reported to the FMCSA as of March 31, 2018. The NHMRR is a listing, as reported by States and Tribal governments, of all designated and restricted roads and preferred highway routes for transportation of highway route controlled quantities (HRCQ) of Class 7 radioactive materials (RAM) (HRCQ/RAM) and non-radioactive hazardous materials (NRHMs).

DATES: Applicable date: August 9, 2018.

FOR FURTHER INFORMATION CONTACT: Mr. Vincent Babich (202) 366-4871, or vincent.babich@dot.gov, Hazardous Materials Division, Office of Enforcement and Compliance, Federal Motor Carrier Safety Administration, 1200 New Jersey Ave. SE, Washington, DC 20590. Office hours are from 9 a.m. to 5 p.m., ET., Monday through Friday, except for Federal holidays.

Legal Basis and Background

Under 49 United States Code (U.S.C.) 5112, sections (a)(2) and (b), States and Tribal governments are permitted to designate and limit highway routes over which hazardous materials (HM) may be transported, provided the State or Tribal government complies with standards prescribed by the Secretary of Transportation (the Secretary) and meets publication requirements in section 5112(c). To establish standards under section (b), the Secretary must consult with the States, and, under section (c), coordinate with the States to “update and publish periodically” a list of currently effective HM highway routing designations and restrictions. The requirements that States and Tribal governments must follow to establish, maintain, or enforce routing designations for the transport of placardable quantities of NRHMs are set forth in title 49 of the Code of Federal Regulations (CFR) part 397, subpart C. Subpart D of part 397 sets forth the requirements for designating preferred routes for HRCQ/RAM shipments as an alternative, or in addition, to Interstate System highways. For HRCQ/RAM shipments, section 397.101(b)(1) defines a preferred route as an Interstate Highway for which no alternative route is designated by the State, a route specifically designated by the State, or both. (See section 397.65 for the definition of “NRHM” and “routing designations.”)

Under a delegation from the Secretary,¹ FMCSA has authority to implement 49 U.S.C. 5112.

¹ 49 CFR 1.87(d)(2).

Currently, 49 CFR 397.73 establishes public information and reporting requirements for NRHM. States or Tribal governments are required to furnish information regarding any new or changed routes to FMCSA within 60 days after establishment. Under 49 CFR 397.103, a State routing designation for HRCQ/RAM routes (preferred routes) as an alternative, or in addition, to an Interstate System highway, is effective when the authorized routing agency provides FMCSA with written notification, FMCSA acknowledges receipt in writing, and the route is published in FMCSA's National Hazardous Material Route Registry. The Office of Management and Budget has approved these collections of information under control number 2126-0014, Transportation of Hazardous Materials, Highway Routing.

In this notice, FMCSA is merely performing the ministerial function of updating and publishing the NHMRR based on input from its State and Tribal partners under 49 U.S.C. 5112(c)(1). Accordingly, this notice serves only to provide the most recent revisions to the NHMRR; it does not establish any new public information and reporting requirements.

Updates to the NHMRR

FMCSA published the full NHMRR in a Federal Register Notice on April 29, 2015 (80 FR 23859). Since publication of the 2015 notice, FMCSA published one update to the NHMRR in a Federal Register Notice on August 8, 2016 (81 FR 52518).

This notice provides revisions to the NHMRR, reported to the FMCSA from August 8, 2016 through March 31, 2018. The revisions to the NHMRR listings in this notice supersede and replace corresponding NHMRR listings published in the April 29, 2015 notice and corresponding revisions to the NHMRR listings published in the August 8, 2016 notice. Continue to refer to the April 29, 2015 notice for additional background on the NHMRR and the August 8, 2016 notice for the procedures for State and Tribal government routing agencies to update their Route Registry listings and contact information.

The full current NHMRR for each state is posted on the FMCSA's internet website at: https://www.fmcsa.dot.gov/regulations/hazardous-materials/national-hazardous-materials-route-registry.

Revisions to the NHMRR in This Notice

In accordance with the requirements of 49 CFR 397.73 and 397.103, the NHMRR is being revised as follows:

The FMCSA Division field office contact information for each state is no longer listed in the NHMRR. This information is available on the internet at the FMCSA's website at: https://www.fmcsa.dot.gov/mission/field-offices. In addition, the contact information for each State and Tribal Government routing agency is no longer listed in the NHMRR. This information is also available on the internet at the FMCSA's website at: https://www.fmcsa.dot.gov/regulations/hazardous-materials/national-hazardous-materials-route-registry-state. The removal of this information from the NHMRR eliminates the presentation of redundant information and will streamline the future maintenance and update of the NHMRR.

Table 2—California—Designated HRCQ/RAM routes

Route Order Designator “A” is revised. The FMCSA Quality Assurance (QA) Comment is removed.

Route Order Designator “B1” is revised. The FMCSA QA Comment is removed.

Route Order Designator “B3” is revised to correct an editorial error.

Route Order Designator “B5” is revised.

Route Order Designator “B5B” is added and assigned a “P” designation.

Route Order Designator “B5B-1.0” is added and assigned a “P” designation.

Route Order Designator “B5B-2.0” is added and assigned a “P” designation.

Table 3.—California—Designated NRHM routes

Route Order Designator “A1” is revised.

Route Order Designator “A2” (Designation “B”) is revised.

Route Order Designator “A2A” is revised.

Route Order Designator “A4B-1.0” is revised.

Route Order Designator “A4B-2.0” is added and assigned a “B” designation.

Route Order Designator “A4B-3.0” is added and assigned a “B” designation.

Route Order Designator “A4B-4.0” is added and assigned a “B” designation.

Route Order Designator “A11P-2.0-I” is revised.

Route Order Designator “A11P-2.0-M” is revised.

Route Order Designator “A12P-2.0-J1” is revised to correct an editorial error.

Route Order Designator “A12P-2.0-M1” is removed.

Route Order Designator “A12P-2.0-M2” is removed.

Route Order Designator “A13P-2.0-M1” is removed.

Route Order Designator “A13P-2.0-M2” is removed.

Route Order Designator “A14P-2.0-M1” is removed.

Route Order Designator “B” is removed.

Route Order Designator “C1” is removed.

Route Order Designator “C2” is removed.

Route Order Designator “C3” is removed.

Route Order Designator “D” is removed.

Table 4.—Pennsylvania—Restricted HM Routes

Route Order Designators “E”, “F”, “G”, and “P” are revised to provide the current internet address for the Pennsylvania Turnpike website.

Table 5.—Virginia—Restricted HM routes

Route Order Designators “D”, “E”, “F”, “G”, and “H”. The referenced internet addresses are updated.

Table 6.—Wyoming—Restricted HM Routes

Route Order Designator “A” is revised to remove obsolete references to the CFR.

Route Order Key

Each listing in the NHMRR includes codes to identify each route designation and each route restriction reported by the State Designation codes identify the routes along which a driver may or must transport specified HM. Among the designation codes is one for “preferred routes,” which is defined in § 397.101(b)(1) ² and applies to transporting “a highway route controlled quantity of Class 7 (radioactive) materials.” Restriction codes identify the routes along which a driver may not transport specified HM shipments. Table 1 presents information on each restriction and designation code.

² 49 CFR 397.101(b)(1) defines “preferred route” as, “an Interstate System highway for which an alternative route is not designated by a State routing agency; a State-designated route selected by a State routing agency pursuant to § 397.103; or both.”

Table 1—Restriction/Designation Key
Restrictions | Designations
0—ALL Hazardous Materials | A—ALL NRHM Hazardous Materials.
1—Class 1—Explosives | B—Class 1—Explosives.
2—Class 2—Gas | I—Poisonous Inhalation Hazard (PIH).
3—Class 3—Flammable | P—*Preferred Route* Class 7—Radioactive.
4—Class 4—Flammable Solid/Combustible
5—Class 5—Organic
6—Class 6—Poison
7—Class 7—Radioactive
8—Class 8—Corrosives
9—Class 9—Dangerous (Other)
i—Poisonous Inhalation Hazard (PIH)

Revisions to the National Hazardous Materials Route Registry (March 31, 2018)

Table 2—California—Designated HRCQ/RAM Routes
Designation date | Route order | Route description | City | County | Designation(s) (A,B,I,P) | FMCSA QA comment
10/19/94 | A | SR 905 from Mexican Border to Interstate 805 |  |  | P |
10/19/94 | B1 | Interstate 805 from Interstate 5 [north of the City of San Diego] to State Route 905 |  | San Diego | P |
10/19/94 | B3 | Interstate 5 from Interstate 405 [MP 93—Irvine] to State 78 [MP 51—Carlsbad] |  |  | P |
10/19/94 and 04/01/17 | B5 | Interstate 605 from Interstate 210 [Duarte] to Interstate 105 [Norwalk] |  | Los Angeles | P |
04/01/17 | B5B | Interstate 105 from Interstate 605 to Interstate 110 |  |  | P |
04/01/17 | B5B-1.0 | Interstate 110 from Interstate 105 to State Route 47 |  |  | P |
04/01/17 | B5B-2.0 | Interstate 710 from Interstate 105 to Seaside Freeway |  |  | P |

Table 3—California—Designated NRHM Routes
Designation date | Route order | Route description | City | County | Designation(s) (A,B,I,P) | FMCSA QA comment
12/07/17 | A1 | State Route 905 from Mexican Border to Interstate 5 |  |  | B,I |
10/28/92 and 12/07/17 | A2 | Interstate 805 from Interstate 5 [Torrey Pines] to State Route 905 |  | San Diego | B |
10/28/92 and 12/07/17 | A2A | Interstate 5 from Interstate 805 [MP 31—Torrey Pines] to State Route 905 | San Diego | San Diego | B |
10/28/92 and 12/07/17 | A4B-1.0 | State Route 125 from State Route 54 to State Route 52 | La Mesa | San Diego | B |
12/07/17 | A4B-2.0 | State Route 67 from Interstate 8 to State Route 52 |  |  | B |
12/07/17 | A4B-3.0 | State Route 52 from State Route 67 to Interstate 805 |  |  | B |
12/07/17 | A4B-4.0 | State Route 54 from Interstate 805 to State Route 125 |  |  | B |
10/28/92 and 07/27/17 | A11P-2.0-I | Interstate 280 from Cesar Chavez St. [San Francisco] to Interstate 680/US 101 [San Jose] |  |  | B |
07/27/17 | A11P-2.0-M | Cesar Chavez St. from US 101 to Pier 80 |  |  | B |
10/28/92 | A12P-2.0-J1 | Interstate 580 from Interstate 238 [Ashland] to Interstate 680 [Dublin] |  |  | B |

Table 4—Pennsylvania—Restricted HM Routes
Designation date | Route order | Route description | City | County | Restriction(s) (0,1,2,3,4,5,6,7,8,9,i)
01/01/40 | E | Interstate 70/76 [Allegheny Tunnel—Somerset County] from Exit 110 to Exit 146 [Effective July 16, 2000: All Table 1 materials and Explosives are still prohibited. Table 2 materials (except explosives) permitted for non-bulk packages (those placards that do not require four-digit codes)] For additional information, visit the Pennsylvania Turnpike website: https://www.paturnpike.com/commercial/placarded_loads.aspx |  | Somerset | 1,2,3,4,5,6,7,8,i
01/01/40 | F | Interstate 76 [Tuscarora Tunnel—Franklin/Huntingdon Counties] from Exit 180 to Exit 189 [Effective July 16, 2000: All Table 1 materials and Explosives are still prohibited. Table 2 materials (except explosives) permitted for non-bulk packages (those placards that do not require four-digit codes)] For additional information, visit the Pennsylvania Turnpike website: https://www.paturnpike.com/commercial/placarded_loads.aspx |  | Franklin and Huntingdon | 1,2,3,4,5,6,7,8,i
01/01/40 | G | Interstate 76 [Blue Mountain Tunnel and Kittatinny Tunnel—Franklin County] from Exit 189 to Exit 201 [Effective July 16, 2000: All Table 1 materials and Explosives are still prohibited. Table 2 materials (except explosives) permitted for non-bulk packages (those placards that do not require four-digit codes)] For additional information, visit the Pennsylvania Turnpike website: https://www.paturnpike.com/commercial/placarded_loads.aspx |  | Franklin | 1,2,3,4,5,6,7,8,i
01/01/65 | P | Interstate 476 [Northeast Extension of PA Turnpike at Lehigh Tunnel] from Exit 56 to Exit 74 [Effective July 16, 2000: All Table 1 materials and Explosives are still prohibited. Table 2 materials (except explosives) permitted for non-bulk packages (those placards that do not require four-digit codes)] For additional information, visit the Pennsylvania Turnpike website: https://www.paturnpike.com/commercial/placarded_loads.aspx |  | Carbon and Lehigh | 1,2,3,4,5,6,7,8,i

Table 5—Virginia—Restricted HM routes
Designation date | Route order | Route description | Restriction(s) (0,1,2,3,4,5,6,7,8,9,i)
11/15/95 | D | Elizabeth River Tunnel [Downtown]—Interstate 264 [Phone: (757) 494-2424] Materials in hazard classes 1.1, 1.2, 1.3, 2.3, 4.3, 6.1, 7 (i.e., Highway Route Controlled Quantities-HRCQ), and toxic inhalation hazard are not allowed passage through this tunnel Materials in hazard classes 2.1, 3, 5.1, 5.2, and 8, are allowed access to this tunnel only in “non-bulk” Hazmat shipper MUST abide by rules and regulations outlined in VDOT's “Rules and Regulations Governing the Transportation of Hazardous Materials through Bridge-Tunnel Facilities.” For additional information, see http://www.virginiadot.org/info/resources/vdothazmat.pdf | 1,2,3,4,5,6,7,8,i
11/15/95 | E | Elizabeth River Tunnel [Midtown]—US 58 [Phone: (757) 683-8123] Materials in hazard classes 1.1, 1.2, 1.3, 2.3, 4.3, 6.1, 7 (Highway Route Controlled Quantities (HRCQ)), and toxic inhalation hazard are not allowed passage through this tunnel Materials in hazard classes 2.1, 3, 5.1, 5.2, and 8, are allowed access to this tunnel only in “non-bulk” Hazmat shipper MUST abide by rules and regulations outlined in VA DOT's “Rules and Regulations Governing the Transportation of Hazardous Materials through Bridge-Tunnel Facilities.” For additional information, see http://www.virginiadot.org/info/resources/vdothazmat.pdf | 1,2,3,4,5,6,7,8,i
11/15/95 | F | Monitor-Merrimac Memorial [Bridge/Tunnel]—Interstate 664 [Phone: (757) 247-2123] Materials in hazard classes 1.1, 1.2, 1.3, 2.3, 4.3, 6.1,7 (i.e., Highway Route Controlled Quantities-HRCQ), and toxic inhalation hazard are not allowed passage through this tunnel Materials in hazard classes 2.1, 3, 5.1, 5.2, and 8, are allowed access to this tunnel only in non-bulk” Hazmat shipper MUST abide by rules and regulations outlined in VDOT's “Rules and Regulations Governing the Transportation of Hazardous Materials through Bridge-Tunnel Facilities.” For additional information, see http://www.virginiadot.org/info/resources/vdothazmat.pdf | 1,2,3,4,5,6,7,8,i
11/15/95 | G | Hampton Roads Bridge-Tunnel [Interstate 64] [Phone: (757) 727-4832] Materials in hazard classes 1.1, 1.2, 1.3, 2.3, 4.3, 6.1, 7 (i.e., Highway Route Controlled Quantities-HRCQ), and toxic inhalation hazard are not allowed passage through this tunnel Materials in hazard classes 2.1, 3, 5.1, 5.2, and 8, are allowed access to this tunnel only in “non-bulk” Hazmat shipper MUST abide by rules and regulations outlined in VDOT's “Rules and Regulations Governing the Transportation of Hazardous Materials through Bridge-Tunnel Facilities.” For additional information, see http://www.virginiadot.org/info/resources/vdothazmat.pdf | 1,2,3,4,5,6,7,8,i
11/12/96 | H | Chesapeake Bay Bridge—Tunnel [Phone: (757) 331-2960] The jurisdiction for this bridge and tunnel falls under the Chesapeake Bay Bridge and Tunnel District, which maintains its own regulations on hazardous materials.] Classes 1.1, 1.2, 1.3, 2.3, 4.3, and 6.1 (Inhalation Hazard only) are not allowed passage in any quantity Classes 2.1, 2.2, 3, 4.1, 4.2, 5.1, 5.2, 6.1, 7, 8, and 9 are prohibited in limited circumstances For additional information on route restrictions, see http://www.cbbt.com/hazmat.html | 1,2,3,4,5,6,7,8,9,i

Table 6—Wyoming—Restricted HM Routes
Designation date | Route order | Route description | City | County | Restriction(s) (0,1,2,3,4,5,6,7,8,9,i)
04/12/94 | A | City of Cheyenne [City Ordinance: Hazardous materials and radioactive materials may not be transported by motor vehicle within the City of Cheyenne except for the purpose of making pickups and/or deliveries within the City, unless such routing is consistent with 49 CFR Part 397 or 49 CFR Part 177 Motor vehicles carrying hazardous and/or radioactive materials which are making local pickups and/or deliveries must be operated over the safest and most direct route to and from the origination and destination point. Such routes shall not pass through residential areas unless there is no practical alternative.] | Cheyenne | Laramie | 0

End of Revisions to the National Hazardous Materials Route Registry

Issued on: August 2, 2018.
Cathy F. Gautreaux,
Deputy Administrator.

[FR Doc. 2018-17060 Filed 8-8-18; 8:45 am]

BILLING CODE 4910-EX-P